DEPARTMENT OF ENERGY

Federal Energy Regulatory Commission

[Docket No. RP02-529-001]

Portland Natural Gas Transmission System; Notice of Compliance Filing

September 18, 2002.

Take notice that on September 12, 2002, Portland Natural Gas Transmission System (PNGTS) filed to amend its Annual Charge Adjustment (ACA) filing. PNGTS is filing the following revised tariff sheet, to become effective on October 1, 2002, to implement this new ACA charge:

Second Revised Sheet No. 100

PNGTS states that, pursuant to Section 154.402 of the Commission's regulations and Section 17 of the General Terms and Conditions of its tariff, that the purpose of this filing is to change its ACA surcharge to $0.0021 per dekatherm for the upcoming fiscal year.

PNGTS states that copies of its filing were served on all jurisdictional customers and interested state commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-24196 Filed 9-23-02; 8:45 am]

BILLING CODE 6717-01-P